DEPARTMENT OF COMMERCE

Bureau of Industry and Security

Emerging Technology and Research Advisory Committee; Notice of Partially Closed Meeting

The Emerging Technology and Research Advisory Committee (ETRAC) will meet on March 23-24, 2017, 8:30 a.m., Room 3884, at the Herbert C. Hoover Building, 14th Street between Pennsylvania and Constitution Avenues NW., Washington, DC. The Committee advises the Office of the Assistant Secretary for Export Administration on emerging technology and research activities, including those related to deemed exports.

Agenda

Open Session

1. Welcome Remarks & Update of ETRAC activities.

2. Update on Export Control Issues.

3. Review: Emerging Technologies in the News:

• Regulatory uncertainty and the associated business risk for emerging technologies” by Robert A. Hoerr Springer Science and Business Media B.V.

• “Denied Access” Pentagon Betting on New Technologies to Foil Future Adversaries.

• “China's $9 billion effort to beat the U.S. in genetic testing” Washington Post December 30, 2016.

• Tech Connect World Innovation Conference and Expo—May 14-17, 2017—Washington, DC.

• “Encourage governments to need scientific advice” by ETRAC member William Colglazier Nature September 29, 2016.

• 3D Graphene” TechConnect interviews.

• `Airborne Optics and Photonics' photonics.com.

4. Discussion of recent export control and emerging technologies activities.

• Council on Government Relations—Research Compliance and Administration.

• Committee.

• Association of University Technology Managers—Global Issues session at AUTM Annual Meeting in March, 2017.

• Advanced Design and Production Technologies at Sandia National Laboratories.

• JASON-: Scientific group that advises government on matters of science, technology and national security.

• The National Academies of Sciences, Engineering, Medicine—Dual Use Research of Concern: Options for Future Management—January 4, 2017.

5. Discussion on Industry Sectors being reviewed by the ETRAC.

Electronics & Graphene Circuits

Graphene metamaterials

Robotics and Big Data

Optoelectronics & Photonics

Additive Manufacturing

Advanced materials

Autonomous Technology

Hypersonics

6. Comments from the Public.

7. Industry presentations.

Closed Session

8. Discussion of matters determined to be exempt from the provisions relating to public meetings found in 5 U.S.C. app. 2 §§ 10(a)(1) and l0(a)(3).

The open sessions will be accessible via teleconference to 25 participants on a first come, first serve basis. To join the conference, submit inquiries to Ms. Yvette Springer at Yvette.Springer@bis.doc.gov no later than, March 16, 2017.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

The Assistant Secretary for Administration, with the concurrence of the delegate of the General Counsel, formally determined on February 15, 2017, pursuant to Section l0(d) of the Federal Advisory Committee Act, as amended, that the portion of the meeting dealing with matters of which would be likely to frustrate significantly implementation of a proposed agency action as described in 5 U.S.C. 552b(c)(9)(B) shall be exempt from the provisions relating to public meetings found in 5 U.S.C. app. 2 §§ 10(a)1 and 10(a)(3). The remaining portions of the meeting will be open to the public.

For more information, call Yvette Springer at (202) 482-2813.

Yvette Springer,
Committee Liaison Officer.

[FR Doc. 2017-03377 Filed 2-17-17; 8:45 am]

BILLING CODE 3510-JT-P